DEPARTMENT OF COMMERCE

National Oceanic and Atmospheric Administration

Hydrographic Services Review Panel Meeting

AGENCY: National Ocean Service, National Oceanic and Atmospheric Administration (NOAA), Department of Commerce.

ACTION: Notice of open public meeting via webinar.

SUMMARY: The Hydrographic Services Review Panel (HSRP) will hold a public meeting to discuss the draft National Charting Plan and other related topics on navigation services such as: The draft External Source of Data for Nautical Charting; the draft OCS Autonomous Systems Strategy; and the draft Coast Survey Hydrographic Plan. Public comments are requested. The HSRP meeting agenda, webinar and background documents can be found online at: https://www.nauticalcharts.noaa.gov/ocs/hsrp/hsrp.htm.

DATES: The meeting webinar is scheduled for June 9, 2017, 1-4 p.m. Eastern Time. The agenda and times are subject to change. For updates, please check online at: https://www.nauticalcharts.noaa.gov/ocs/hsrp/hsrp.htm.

Webinar Information: This can be found online at: https://www.nauticalcharts.noaa.gov/ocs/hsrp/hsrp.htm.

FOR FURTHER INFORMATION CONTACT: Lynne Mersfelder-Lewis, HSRP program manager, National Ocean Service, Office of Coast Survey, NOAA (N/NSD), 1315 East-West Highway, SSMC3 #6862, Silver Spring, Maryland 20910; telephone: 301-713-2750 ext. 166; email: Lynne.Mersfelder@noaa.gov.

SUPPLEMENTARY INFORMATION: The HSRP public meeting will be conducted via webinar and public comment is encouraged. A public comment period is scheduled during the webinar and will be noted in the agenda. Each individual or group making verbal comments will be limited to a total time of five (5) minutes and will be recorded. Individuals who would like to submit written statements in advance, during or after the meeting should email their comments to Lynne.Mersfelder@noaa.gov. Pre-registration is required to access the webinar and to make public comments. Additional information on the webinar is available from Lynne.Mersfelder@noaa.gov or online at: https://www.nauticalcharts.noaa.gov/ocs/hsrp/hsrp.htm.

The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice. The charter and other information are located online at: http://www.nauticalcharts.noaa.gov/ocs/hsrp/CharterBylawsHSIAStatute.htm. Past HSRP public meeting summary reports, presentations, transcripts, and other information is available online at: https://www.nauticalcharts.noaa.gov/ocs/hsrp/meetings.htm.

Matters To Be Considered: The panel is convening to discuss four draft documents relevant to NOAA's navigation services. Navigation services include the data, products, and services provided by the NOAA programs and activities that undertake geodetic observations, gravity modeling, coastal mapping, bathymetric mapping, hydrographic surveying, nautical charting, tide and water level observations, current observations, and marine modeling. This suite of NOAA products and services support safe and efficient navigation, resilient coasts and communities, and the nationwide positioning information infrastructure to support America's commerce. Other matters may be considered. The agenda is subject to change.

Special Accommodations: This meeting is accessible to people with disabilities. Please direct requests to Lynne.Mersfelder@noaa.gov by June 2, 2017.

Dated: May 3, 2017.
Shepard Smith,
Director, Office of Coast Survey, National Ocean Service, National Oceanic and Atmospheric Administration.

[FR Doc. 2017-09642 Filed 5-11-17; 8:45 am]

BILLING CODE 3510-JE-P